DEPARTMENT OF TRANSPORTATION

Federal Aviation Administration

Eighth Meeting—RTCA Special Committee 217: Joint With EUROCAE WG-44 Terrain and Airport Mapping Databases

AGENCY: Federal Aviation Administration (FAA), DOT.

ACTION: Notice of RTCA Special Committee 217: Joint with EUROCAE WG-44 Terrain and Airport Mapping Databases.

SUMMARY: The FAA is issuing this notice to advise the public of a meeting of RTCA Special Committee 217: Joint with EUROCAE WG-44 Terrain and Airport Mapping Databases.

DATES: The meeting will be held February 28-March 4, 2011, from 9 a.m. to 5 p.m.

ADDRESSES: The meeting will be held at Campus del Baix Llobregat, Building C4, C. Esteve Terradas, 7, 08860-Castelldefels, Barcelona, Spain. The contact person(s) are Maarten Uijt de Haag, Ph.D., Aerospace Research and Technology Center (CTAE) and Ohio University, e-mail: uijtdeha@ohio.edu, phone: +34-903-664-2644, ext 111 and mobile +34-610-612-1115 and Dagoberto Salazar, Ph.D., Grupo de Astronomia y Geomatica (gAGE), Universidad Politecnica de Catalunya (UPC), Barcelona, Spain, e-mail: dagoberto.jose.salazar@upc.edu. EETAC is located in Castelldefels close to the train station. Castelldefels is located outside of Barcelona and can be reached from downtown Barcelona by train/metro. If using metro station Sants Estacio, it is about 20 minutes with one train stop and from Passeig de Gracia, it is a 25 minute train ride with two train stops. More detailed transportation instructions and hotel information will be provided upon request by e-mail.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 217: Joint with EUROCAE WG-44 Terrain and Airport Mapping Databases meeting. The agenda will include:

February 28, 2011

• Opening Plenary Session

• Results of December 8, 2010 PMC ToR Review

• Presentations Not Linked to Working Group Activities

• Working Group Read-Outs

• Applications

• Content

• Connectivity

• Guidance

• Quality, Non-Numeric

• Quality, Numeric Requirements

• Temporality

• Terrain and Obstacle

• Tiger Team WG-44/WG-78

• Document Review Sessions (Pre-Frac)

• DO-272

• DO-291

• DO-276

• Additional Documentation Discussion

• Guidance Material

• ASRN Validation and Verification

• New Application Coordination Working Group

• Needs

• Format

• Members

• Action Item Review

• Closing Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on January 27, 2011.
Robert L. Bostiga,
RTCA Advisory Committee.

[FR Doc. 2011-2320 Filed 2-2-11; 8:45 am]

BILLING CODE 4910-13-P